DEPARTMENT OF LABOR

Employment and Training Administration

Workforce Investment Act of 1998 (WIA); Notice of Incentive Funding Availability Based on Program Year (PY) 2013 Performance

AGENCY: Employment and Training Administration, Labor.

ACTION: Notice.

SUMMARY: The Department of Labor (DOL), in collaboration with the Department of Education (ED), announces that three States are eligible to apply for WIA (Public Law 105-220, 29 U.S.C. 2801 et seq.) incentive grant awards authorized by section 503 of the WIA. The Workforce Innovation and Opportunity Act, signed into law on July 22, 2014, Public Law 113-128, eliminates incentive awards for state performance. PY 2013 is the last year that incentive grants will be awarded to states under WIA.

DATES: The three eligible States must submit their applications for incentive funding to the address listed below by June 15, 2015.

ADDRESSES: Submit applications to the Employment and Training Administration, Office of Policy Development and Research, Division of Strategic Planning and Performance, 200 Constitution Avenue NW., Room N-5641, Washington, DC 20210, Attention: Caterra Castile and Luke Murren. Telephone number: 202-693-3733 (this is not a toll-free number). Fax: 202-693-2766. Email: castile.caterra@dol.gov and murren.luke@dol.gov. Information may also be found at the ETA Performance Web site: http://www.doleta.gov/performance. Additional information on how to apply can be found in Training and Employment Guidance Letter 20-01 Change 13, which will be forthcoming.

FOR FURTHER INFORMATION CONTACT: Luke Murren at Murren.Luke@dol.gov.

SUPPLEMENTARY INFORMATION: Three States (see Appendix) qualify to receive a share of the $9 million available for incentive grant awards under WIA section 503. These funds, which were contributed by ED from appropriations for the Adult Education and Family Literacy Act at WIA title II (AEFLA), are available for the eligible States to use through June 30, 2017, to support innovative workforce development and education activities that are authorized under WIA title IB (Workforce Investment Systems) or WIA title II (AEFLA), or under the Carl D. Perkins Career and Technical Education Act of 2006 (Perkins IV), 20 U.S.C. 2301 et seq., as amended by Public Law 109-270. In order to qualify for a grant award, a State must have exceeded its performance levels for WIA title IB and WIA title II. (Perkins IV removed the requirement that funds be reserved to carry out section 503 of WIA which only referenced Public Law 105-332 (Perkins III); thus, DOL and ED do not consider States' performance levels under Perkins IV in determining eligibility for incentive grants under section 503 of WIA). The performance related goals used to determine a State's eligibility status include: (1) Employment after training and related services, as well as retention in employment, and (2) improvements in literacy levels, among other measures. After review of the performance data submitted by States to DOL and ED, each Department determined which States exceeded their performance levels for its respective program(s) (the Appendix at the bottom of this notice lists the eligibility of each State by program). These lists were compared, and States that exceeded their performance levels for both programs are eligible to apply for and receive an incentive grant award.

The States eligible to apply for incentive grant awards and the amounts they are eligible to receive are listed in the following chart:

State | Total award
Minnesota | $3,000,000
North Dakota | 3,000,000
Rhode Island | 3,000,000

Portia Wu,
Assistant Secretary for Employment and Training, Labor.

Appendix
State | Incentive grants program year 2013 exceeded state performance levels: WIA title IB | Incentive grants program year 2013 exceeded state performance levels: AEFLA (WIA title II—Adult education) | Incentive grants program year 2013 exceeded state performance levels: WIA title IB; AEFLA
Alabama |  |  |
Alaska | X |  |
Arizona |  |  |
Arkansas |  |  |
California |  |  |
Colorado | X |  |
Connecticut |  |  |
District of Columbia |  |  |
Delaware |  |  |
Florida |  |  |
Georgia |  | X |
Hawaii |  |  |
Idaho |  | X |
Illinois |  | X |
Indiana | X |  |
Iowa |  | X |
Kansas | X |  |
Kentucky |  |  |
Louisiana |  |  |
Maine |  |  |
Maryland | X |  |
Massachusetts |  | X |
Michigan |  |  |
Minnesota | X | X | X
Mississippi |  |  |
Missouri |  | X |
Montana |  | X |
Nebraska | X |  |
Nevada |  |  |
New Hampshire |  | X |
New Jersey |  |  |
New Mexico |  |  |
New York |  | X |
North Carolina |  |  |
North Dakota | X | X | X
Ohio | X |  |
Oklahoma |  |  |
Oregon |  |  |
Pennsylvania |  | X |
Puerto Rico |  |  |
Rhode Island | X | X | X
South Carolina | X |  |
South Dakota |  | X |
Tennessee | X |  |
Texas |  | X |
Utah | X |  |
Vermont |  |  |
Virginia |  |  |
Washington |  |  |
West Virginia | X |  |
Wisconsin |  |  |
Wyoming |  |  |
Total | 14 | 15 | 3
* States in bold exceeded their performance levels for both WIA title IB and WIA title II programs.

[FR Doc. 2015-10223 Filed 4-30-15; 8:45 am]

BILLING CODE 4510-FN-P